DEPARTMENT OF AGRICULTURE

Forest Service

Madera and Fresno County Resource Advisory Committees; Meeting

AGENCY: Forest Service, USDA.

ACTION: Notice of Resource Advisory Committee meeting.

SUMMARY: Pursuant to the authorities in the Federal Advisory Committee Act of 1972 (Pub. L. 92-463) and under the Secure Rural Schools and Community Self-Determination Act of 2000 (Public Law 106-393) the Sierra National Forest's Resource Advisory Committees (RAC) for Madera and Fresno Counties will meet on January 12, 2002. The Madera Resource Advisory Committee will meet at the Mariposa/Minarets Ranger Station in North Fork, CA. The Fresno County Resource Advisory Committee will meet at the Pineridge/Kings River Ranger Station in Prather, CA. The purpose of the meetings is to provide an overview of Resource Advisory Committee roles and responsibilities and to determine how the RAC will conduct business for future meetings.

DATES: Both the Madera and the Fresno meetings will be held on January 12, 2002. The meetings will be held from 8 a.m. To 4 p.m.

ADDRESSES: The Madera County RAC meeting will be held at the Mariposa/Minarets Ranger Station, 57003 Road 225, North Fork CA. The Fresno County RAC meeting will be held at the Pineridge/Kings River Ranger Station, 29688 Auberry Road, Prather CA.

FOR FURTHER INFORMATION CONTACT: Sue Exline, USDA, Sierra National Forest, 1600 Tollhouse Road, Clovis, CA 93611 (559) 297-0706 ext. 4804 e-MAIL skexline@fs.fed.us.

SUPPLEMENTARY INFORMATION: Agenda items to be covered include: (1) Roles and responsibility of Advisory Committee; (2) Flow of work; (3) Project process, submission forms and deadlines; (4) Election of RAC chairperson; (5) Public comment. The meeting is open to the public. Public input opportunity will be provided and individuals will have the opportunity to address the Committee at that time.

Dated: December 14, 2001.
James L. Boynton,
Forest Supervisor.

[FR Doc. 01-31323 Filed 12-19-01; 8:45 am]

BILLING CODE 3410-11-M